ENVIRONMENTAL PROTECTION AGENCY

[FRL-7036-4]

Agency Information Collection Activities: Proposed Collection; Comment Request; National Emission Standards for Hazardous Air Pollutants (NESHAP) for Marine Tank Vessel Loading Operations (40 CFR Part 63, Subpart Y)

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): National Emission Standards for Hazardous Air Pollutants (NESHAP) for Marine Tank Vessel Loading Operations (40 CFR part 63, subpart Y), EPA ICR Number 1679.04, OMB Control Number 2060-0289, Expiration Date: 2/28/02. Before submitting the ICR to OMB for review and approval, EPA is soliciting comments on specific aspects of the proposed information collection as described below.

DATES: Comments must be submitted on or before October 16, 2001.

ADDRESSES: Compliance Monitoring and Water Programs Branch, Office of Compliance, Office of Enforcement and Compliance Assurance, Mail Code 2223A, U.S. Environmental Protection Agency, 401 M Street SW., Washington DC 20460. A hard copy of this ICR may be obtained without charge by calling the identified information contact individual.

FOR FURTHER INFORMATION CONTACT: Virginia Lathrop at (202) 564-7057 and FAX at (202) 564-0050, or by E-mail at lathrop.virginia@epa.gov.

SUPPLEMENTARY INFORMATION: Affected entities: Entities potentially affected by this action are those which load marine tank vessels.

Title: National Emission Standards for Hazardous Air Pollutants (NESHAP) for Marine Tank Vessel Loading Operations (40 CFR part 63, subpart Y), EPA ICR Number 1679.04, OMB Control Number 2060-0289, Expiration Date: 2/28/02.

Abstract: The respondents are owners and operators of new and existing marine tank vessel loading facilities that are in operation after promulgation of the federal standards and the NESHAP in 1995. There are an estimated 1,500 marine tank vessel loading facilities nationwide. Of these approximately 20 have annual gasoline throughput greater than 10 million barrels (bbl) or annual crude oil throughput greater than 200 million bbl. These facilities are required to control emissions of volatile organic compound and hazardous air pollutants under section 183(f) for the Clean Air Act. These facilities generally must install reasonably available control technology (RACT). There are 20 such facilities. Excluding the 20, about 85 have annual HAP emissions of greater than 15 tons and must control emissions under section 112 (d). These facilities are subject to the National Emissions Standards for Hazardous Air Pollutants and require maximum available control technology (MACT). The number of new marine tank vessel loading facilities is expected to be low because no net new growth is predicted for this industry. Facilities required to install controls under these standards have to fulfill the applicable reporting and record keeping requirements of 40 CFR 63.560 (subpart Y). These include reports: (1) initial notification of applicability report; (2) notification of intent to do performance testing and monitoring system performance evaluation; (3) initial notification of compliance status; (4) operation and maintenance records, including inspection schedule; (5) monitoring records; and (6) annual reports of exceedences of the emissions limits. There are also annual reports of exceedences of monitoring values and description and timing of steps take to address the cause of exceedences. Facilities maintain documentation that the vessels they load are vapor tight. All information is made available to the Administrator or delegated state authority upon request for a minimum of 5 years. The records and reports allow the administrator to identify new, modified, reconstructed and existing facilities subject to the standards and ensure the standards are being achieved. Records and reports are required under the general provisions at 40 CFR part 63, subpart A and 40 CFR 63.560.

An agency may not conduct or sponsor, and a person is not required to respond to, a collection of information unless it displays a currently valid OMB control number. The OMB control numbers for EPA's regulations are listed in 40 CFR part 9 and 48 CFR chapter 15. The Standard Industrial Classification Code for this industry is 4491, Marine Cargo Handling. The information is used by the Agency to assure existing sources are subject to the standards, to ensure the RACT and MACT are being applied correctly, and to ensure that the emissions control system used are properly operated. Based on records and reports the Agency can decide what facilities should be inspected. To minimize burden, much of the information is kept as records and would not be routinely reported to the Agency.

The EPA would like to solicit comments to:

(i) evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement

In the currently approved ICR, it is estimated that there are 105 respondents and that the recordkeeping and reporting total annual burden is 28,131 hours. The estimated cost to the respondents is $999,273. Since the frequency of response is once per year (annual reporting), the average annual burden per response is 268 hours per year.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: August 6, 2001.
Lisa C. Lund,
Acting Director, Office of Compliance.

[FR Doc. 01-20792 Filed 8-16-01; 8:45 am]

BILLING CODE 6560-50-P